DEPARTMENT OF COMMERCE

National Oceanic and Atmospheric Administration

[RTID 0648-XF356]

Permits; Foreign Fishing

AGENCY: National Marine Fisheries Service (NMFS), National Oceanic and Atmospheric Administration (NOAA), Commerce.

ACTION: Notice of application for transshipment permit; request for comments.

SUMMARY: NMFS publishes for public review and comment information regarding a permit application for transshipment of farmed salmon from aquaculture operations in Maine waters to processing plants in Canada by Canadian flagged vessels. The application for a transshipment permit is submitted under provisions of the Magnuson-Stevens Fishery Conservation and Management Act (Magnuson-Stevens Act). This action is necessary for NMFS to make a determination on whether to approve the permit application.

DATES: Written comments must be received by December 19, 2025.

ADDRESSES: Written comments on this action, identified by RTID 0648-XF356 should be sent to Jasmine Prat in the NMFS Office of International Affairs, Trade, and Commerce by email at jasmine.prat@noaa.gov.

FOR FURTHER INFORMATION CONTACT: Jasmine Prat by email at jasmine.prat@noaa.gov, or by phone at 301-956-5472.

SUPPLEMENTARY INFORMATION:

Background

Section 1824(d) of the Magnuson-Stevens Act (16 U.S.C. 1824(d)) authorizes the Secretary of Commerce (Secretary) to issue a transshipment permit for a vessel other than a vessel of the United States to engage in fishing consisting solely of transporting fish or fish products at sea from a point within the United States Exclusive Economic Zone (EEZ) or, with the concurrence of a state, within the boundaries of that state, to a point outside the United States.

Section 1824(d)(3)(D) of the Magnuson-Stevens Act provides that an application to transship from U.S. waters to another country using non-U.S. vessels may not be approved until the Secretary determines that no owner or operator of a vessel of the United States which has adequate capacity to perform the transportation for which the application is submitted has indicated an interest in performing the transportation at fair and reasonable rates. NMFS is publishing this notice as part of its effort to make such a determination with respect to the application described below.

Summary of Application

NMFS received an application from True North Salmon Limited Partnership, Kelly Cove Salmon Limited, and 697002 NB, Inc., requesting authorization to transfer salmon from U.S. farm pens in Maine waters to five Canadian vessels for the purpose of transporting the salmon to Blacks Harbour, Canada for processing. The transshipment operations will occur within the boundaries of the State of Maine, and within 12 nautical miles from Maine's seaward boundary. NMFS issued permits for the same vessels for use in calendar year 2025. Those permits expire December 31, 2025.

Dated: December 3, 2025.
Alexa Cole,
Director, Office of International Affairs, Trade, and Commerce, National Marine Fisheries Service.

[FR Doc. 2025-22110 Filed 12-4-25; 8:45 am]

BILLING CODE 3510-22-P